DEPARTMENT OF HEALTH AND HUMAN SERVICES

Food and Drug Administration

Measuring the Effectiveness of the Nation's Foodservice and Retail Food Protection System; Notice of Public Meeting

AGENCY: Food and Drug Administration, HHS.

ACTION: Notice; satellite downlink public meeting.

SUMMARY: The Food and Drug Administration (FDA) is announcing a public meeting (via satellite downlink) entitled “Measuring the Effectiveness of the Nation's Foodservice and Retail Food Protection System.” The purpose of the meeting is to discuss the report entitled “FDA Report on the Occurrence of Foodborne Illness Risk Factors Within Selected Institutional Foodservice, Restaurant, and Retail Food Store Facility Types (2004)” (the 2004 Report) and to provide information to the public to improve food preparation practices and food employee behaviors at institutional food service establishments, restaurants, and retail food stores. Elsewhere in this issue of the Federal Register, FDA is announcing the availability of the 2004 Report.

DATES: The satellite downlink public meeting will be held on Wednesday, October 13, 2004, from 1 p.m. to 3 p.m., eastern standard time.

ADDRESSES: The public meeting will be broadcast nationwide from FDA's broadcast studio at the Center for Devices and Radiological Health (HFZ-260), 16071-B Industrial Dr., Gaithersburg, MD. Satellite coordinates for the broadcast will be posted on FDA's Web site at http://www.fda.gov/cdrh/ocer/dcm/html/program_calendar.html beginning September 15, 2004. See SUPPLEMENTARY INFORMATION for locations where the satellite downlink may be viewed.

FOR FURTHER INFORMATION CONTACT: Lakesha Abbey, Center for Food Safety and Applied Nutrition (HFS-625), Food and Drug Administration, 5100 Paint Branch Pkwy., College Park, MD 20740, 301-436-2440, FAX: 301-436-2672, e-mail: Labbey@cfsan.fda.gov.

SUPPLEMENTARY INFORMATION:

I. Background

FDA advises other Federal agencies, State, local, and tribal governments on food safety standards for institutional food service establishments, restaurants, retail food stores, and other retail food establishments. In this advisory role, FDA works closely with these agencies to provide guidance and assistance that will enhance the regulatory programs of Federal, State, local, and tribal jurisdictions.

The purpose of the 2004 Report is to present data on foodborne illness risk factors in institutional foodservice establishments, restaurants, and retail food stores. The results contained in the 2004 Report provide insight into the effectiveness of current industry management systems and food safety regulatory programs in controlling foodborne illness risk factors in retail and foodservice operations. Using the data from multiple collection periods, FDA hopes to evaluate trends and determine if progress is being made toward the goals of reducing the occurrence of foodborne illness risk factors.

FDA will discuss the 2004 Report during the public meeting. The presentation will be available on FDA's Web site at http://www.fda.gov on the day of the satellite broadcast.

II. Registration

Persons interested in attending the satellite downlink public meeting as a member of the studio audience should send their registration information (including name, title, business affiliation, address, and telephone and fax numbers) to the contact person (see FOR FURTHER INFORMATION CONTACT). Due to space limitations, we recommend that you register at least 5 days prior to the meeting. Seating capacity is limited to 75 persons. Registration will be accepted on a first-come-first-served basis. There is no registration fee for this public meeting, but early registration is encouraged because space is limited, and it will expedite entry into the building and its parking area. If you are interested in attending as a member of the studio audience and need any reasonable accommodations due to a disability, including a sign language interpreter, please contact Lakesha Abbey by October 6, 2003.

III. Sites for Viewing the Downlink Public Meeting

The satellite broadcast can be received at any place that has access to a steerable C-ban satellite dish. Contact your state retail food protection office or local FDA office for locations where the satellite broadcast will be available.

A videotape copy of the satellite broadcast may be available at the location where it was viewed or through the contact person listed in this document (see FOR FURTHER INFORMATION CONTACT). You may also borrow a copy of the videotape through FDA's ORA-U Lending Library by sending your name and mailing address along with the name, title, and date of the broadcast to ORADLT@ora.fda.gov.

IV. Electronic Access

The 2004 report will be available electronically on FDA's Web site at http://www.cfsan.fda.gov/~dms/retrsk2.html.

Dated: September 16, 2004.
Jeffrey Shuren,
Assistant Commissioner for Policy.

[FR Doc. 04-21314 Filed 9-17-04; 4:06 pm]

BILLING CODE 4160-01-S